DEPARTMENT OF THE INTERIOR

Fish and Wildlife Service

[FWS-R5-R-2015-N080; BAC-4311-K9-S3]

Monomoy National Wildlife Refuge, Barnstable County, MA; Final Comprehensive Conservation Plan and Environmental Impact Statement

AGENCY: Fish and Wildlife Service, Interior.

ACTION: Notice of availability; final comprehensive conservation plan and environmental impact statement.

SUMMARY: We, the U.S. Fish and Wildlife Service (Service), announce the availability for review of our final comprehensive conservation plan (CCP) and environmental impact statement (EIS) for Monomoy National Wildlife Refuge (NWR). The CCP/EIS describes how we propose to manage the refuge for the next 15 years.

DATES: We will sign a record of decision (ROD) no sooner than 30 days after the publication of this notice.

ADDRESSES: You may view or obtain copies of the final CCP/EIS by any of the following methods. You may also request a hard copy or a CD-ROM.

Agency Web site: Download a copy of the document at http://www.fws.gov/refuge/monomoy/what_we_do/conservation.html.

Email: Send requests to matthew_hillman@fws.gov, and include “Monomoy NWR CCP” in the subject line of your email.

U.S. Mail: Matthew Hillman, Refuge Manager, Monomoy NWR, 30 Wikis Way, Chatham, MA 02633.

Fax: Attention: Matthew Hillman, 508-945-9559.

In-Person Viewing or Pickup: Call 508-945-0594 ext. 11 to make an appointment (necessary for view/pickup only) during regular business hours at Monomoy NWR, 30 Wikis Way, Chatham, MA 02633. Alternatively, call 978-443-4661 to make an appointment (necessary for view/pickup only) during regular business hours at Eastern Massachusetts NWR Complex headquarters office, 73 Weir Hill Road, Sudbury, MA 01776.

To view comments on the final CCP/EIS from the Environmental Protection Agency (EPA), or for information on EPA's role in the EIS process, see EPA's Role in the EIS Process under SUPPLEMENTARY INFORMATION.

FOR FURTHER INFORMATION CONTACT: Matthew Hillman, Refuge Manager, 508-945-0594, ext. 11 (phone); matthew_hillman@fws.gov (email).

SUPPLEMENTARY INFORMATION:

Introduction

With this notice, we continue the CCP process for Monomoy NWR, which officially began on February 24, 1999, when we published a Federal Register notice (64 FR 9166) announcing our intent to prepare a CCP. The notice indicated that one draft CCP/EIS would be written for all eight refuges in the Eastern Massachusetts NWR Complex, of which Monomoy NWR is a part. However, as our work got under way to develop one CCP/EIS for eight refuges, we recognized that each had distinct issues and management concerns, and it became apparent that grouping the refuges into separate CCP/EISs would make sense. Thus, in two separate Federal Register notices—one published on February 15, 2001 (66 FR 10506), and a second one published on December 13, 2004 (69 FR 72210)—we explained our intent to reorganize our CCP planning effort for the eight refuges, including Monomoy NWR. For more information about the initial steps of the planning process and the history of this refuge, see the December 13, 2004, notice.

On April 10, 2014, we announced the release of the draft CCP/EIS to the public and requested comments in a notice of availability (NOA) in the Federal Register (79 FR 19920). We subsequently extended the public comment period in another notice in the Federal Register (79 FR 36554) on June 27, 2014. In addition, EPA published a notice announcing the draft CCP/EIS on April 18, 2014, as required under Section 309 of the Clean Air Act (CAA) (42 U.S.C. 7401 et seq.). We now announce the final CCP/EIS. Under the CAA, EPA also will announce the final CCP/EIS via the Federal Register.

EPA's Role in the EIS Process

The EPA is charged under Section 309 of the CAA to review all Federal agencies' EISs and to comment on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a NOA on Fridays in the Federal Register.

A NOA is published at the start of the 45-day public comment period for draft EISs, as well as at the start of the 30-day “wait period” for final EISs. With final EISs, agencies are generally required to wait 30 days before making a decision on a proposed action. For more information, see http://www.epa.gov/compliance/nepa/eisdata.html. You may search for EPA comments on EISs, along with EISs themselves, at https://cdxnodengn.epa.gov/cdx-enepa-public/action/eis/search.

This notice announces the availability of the final CCP/EIS for Monomoy NWR in accordance with the National Environmental Policy Act (NEPA) (40 CFR 1506.6(b)). The final CCP/EIS includes a detailed description of the three management alternatives we considered to guide us in managing and administering the refuge for the next 15 years. The document also contains a thorough analysis of impacts predicted from implementing each of the alternatives on the surrounding natural and human environments. We propose that alternative B, the Service-preferred alternative, serve as the foundation for the final, stand-alone CCP. We highlight the modifications we made to alternative B between the draft and final CCP/EIS in Comments, below.

Our next planning step is to complete a ROD no sooner than 30 days after publication of this notice (40 CFR 1506.10(b)(2)).

Background

The CCP Process

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and goals and contributing to the mission of the National Wildlife Refuge System (NWRS). CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Monomoy NWR

In 1944, Monomoy NWR was established under the authority of the Migratory Bird Conservation Act “for use as an inviolate sanctuary, or any other management purpose, expressly for migratory birds.” The lands and waters of the refuge were acquired via a 1944 Declaration of Taking filed with the Federal District Court for the District of Massachusetts. The refuge boundary is defined in the Declaration of Taking as following mean low water (MLW) along the eastern side of the refuge, and following a fixed line on the western side. Nearly half (47 percent) of the refuge, including most refuge land above the MLW mark, is federally designated as a wilderness area, currently the only wilderness area in southern New England. The 7,921-acre refuge is composed of natural terrestrial habitats dominated by intertidal sandflats, open sand, grassland-covered dunes, and salt marsh, interspersed with shrublands representative of coastal ecosystems. The majority (60 percent) of the refuge's vegetation cover types are shaped by the dynamic tidal processes and shifting sands associated with barrier beach habitats. The remaining 40 percent is composed of upland shrubland and forest with woody shrubs and small trees.

CCP Alternatives

During the scoping phase of the planning process, we identified a variety of major issues based on input from the public, State or Federal agencies, other Service programs, and our planning team. These issues included the present location of the refuge boundary and the extent of Service jurisdiction for regulating fishing (shellfishing, sport fishing, and commercial open water fishing), management of natural and wilderness resources, where to allow public access, the refuge's relationship with neighbors and the local community, and identifying compatible recreational and other public uses. We developed refuge management alternatives to address community concerns; achieve refuge goals, objectives, and purposes; and support the NWRS mission. Our draft CCP/EIS (79 FR 19920) and final CCP/EIS fully analyze three alternatives for the future management of the refuge: (1) Alternative A, Current Management; (2) Alternative B, Enhanced Management of Habitat and Public Uses (Service-preferred alternative); and (3) Alternative C, Natural Processes. Alternative A satisfies the NEPA requirement of a “No Action” alternative. Both the draft and final plans identify alternative B as the Service-preferred alternative. Please refer to the final CCP/EIS for more details on each of the alternatives.

Comments

We solicited comments on the draft CCP/EIS for Monomoy NWR from April 10, 2014, to October 10, 2014 (79 FR 19920; 79 FR 36554). During the comment period, we received 255 separate written responses and 39 oral comments from the public hearings. Of the 255 written comments, 41 were the same form letter. We also received two petitions: one signed by approximately 650 individuals (Petition A) and the other by approximately 1,576 individuals (Petition B). We also held one public hearing and five refuge open houses to answer questions about the draft CCP/EIS and collect oral and written comments. We evaluated all of the substantive comments we received, and include a summary of those comments, and our responses to them, as appendix K in the final CCP/EIS.

Changes to the Alternative B, the Service's Preferred Alternative

After considering the comments we received on our draft CCP/EIS, we have made several modifications to alternative B in the final plan, including adding or revising several management strategies. Below we present a brief overview of these changes; a full description of the changes is included in appendix K in the final CCP/EIS.

• In June 2015, we signed a new Memorandum of Understanding (see appendix L in the final CCP/EIS) with the town of Chatham (Town) Board of Selectman that administratively determines a management boundary line on Nauset/South Beach. To the east of the boundary line, the Town will manage lands; to the west of the boundary line, the refuge will manage lands. The agreement will be in effect for the next 15 years and has been incorporated into alternative B of the final CCP/EIS.

• We have changed our position on fin fishing with bottom disturbing gear, and use of fish weirs, and do not plan to add regulations to their use within the refuge boundary at this time as existing Federal, State, and Town regulations are adequate to protect refuge resources.

• We have changed our position on prohibiting shellfishing with mechanized equipment below MLW for softshell clams, scallops, quahogs, and sea clams and do not plan to add regulations to their use within the refuge boundary at this time as existing State and Town regulations are adequate to protect refuge resources. Above MLW, refuge regulations will continue to allow only hand-harvest of shellfish; but no salting or use of wheeled carts would be allowed. We would continue to not allow horseshoe crab and mussel harvesting across refuge lands and waters because of their importance as a food resource for migratory birds.

• We re-examined our position on dog walking and will continue to allow dogs on leash on Morris Island, from September 16 through April 30 only. This is consistent with Town regulations and is a time period when less wildlife is found on the Morris Island part of the refuge. We will not allow dogs on any other sections of the refuge at any time of the year.

• We have changed our position about the placement of boat moorings and will allow conservation boat moorings within the refuge boundary under certain stipulations. We will evaluate requests on a case-by-case basis to determine their appropriateness and compatibility.

Alternative B, with these changes, is still our preferred alternative in the final CCP/EIS for Monomoy NWR for several reasons. First, alternative B comprises a mix of actions that, in our professional judgment, work best towards achieving the refuge's purposes, vision, and goals, NWRS policies, and the goals of other State and Regional conservation plans. Second, we also believe that alternative B most effectively addresses key issues raised during the planning process.

Public Availability of Documents

In addition to any one method in ADDRESSES, you can view documents at the following location:

• Eldredge Public Library, 564 Main Street, Chatham, MA 02633 Telephone number: 508-945-5170.

Next Steps

We will document the final decision in a ROD, which will be published in the Federal Register after a 30-day “wait period” that begins when EPA announces this final CCP/EIS. For more information, see EPA's Role in the EIS Process.

Dated: October 7, 2015.
Deborah Rocque,
Acting Regional Director, Northeast Region.

[FR Doc. 2015-27439 Filed 10-29-15; 8:45 a.m.]

BILLING CODE 4333-15-P